DEPARTMENT OF ENERGY

Federal Energy Regulatory Commission

[Docket No. CP07-417-000]

Texas Gas Transmission, LLC; Notice of Availability of the Final Environmental Impact Statement and Public Comment Meeting for the Proposed Fayetteville/Greenville Expansion Project

March 7, 2008.

The staff of the Federal Energy Regulatory Commission (FERC or Commission) has prepared this Final Environmental Impact Statement (EIS) for the natural gas pipeline facilities proposed by Texas Gas Transmission, LLC's (Texas Gas) under the above-referenced docket. Texas Gas's Fayetteville/Greenville Expansion Project (Project) would be located in Faulkner, Cleburne, White, Woodruff, St. Francis, Lee, and Phillips Counties, Arkansas; and Coahoma, Washington, Sunflower, Humphreys, Holmes, and Attalla Counties, Mississippi.

The Final EIS was prepared to satisfy the requirements of the National Environmental Policy Act. The FERC staff concludes that the proposed Project, with the appropriate mitigation measures as recommended, would have limited adverse environmental impact.

The purpose of the Project is to add pipeline capacity to Texas Gas's existing interstate pipeline system to transport the new natural gas supplies being developed from the Fayetteville Shale gas production area in north-central Arkansas to markets in the mid-western, northeastern, and southeastern United States. Texas Gas is proposing to construct at total of about 262.6 miles of 36-inch-diameter pipeline in two separate pipeline laterals, two tie-in laterals, a compressor station, and associated ancillary facilities.

The Final EIS addresses the potential environmental impacts resulting from the construction and operation of the following facilities:

• Fayetteville Lateral: 166.2 miles of 36-inch-diameter pipeline in Faulkner, Cleburne, White, Woodruff, St. Francis, Lee, and Phillips Counties, Arkansas, and Coahoma County, Mississippi;

• Greenville Lateral: 96.4 miles of 36-inch-diameter pipeline in Washington, Sunflower, Humphreys, Holmes, and Attalla Counties, Mississippi;

• 36-inch tie-in lateral: 0.8 mile of 36-inch-diameter pipeline in Attalla County, Mississippi;

• 20-inch tie-in lateral: 0.4 mile of 20-inch-diameter pipeline in Attalla County, Mississippi;

• The 10,650 horsepower Kosciusko Compressor Station in Attalla County, Mississippi;

• Twenty-nine metering and regulating stations; and

• Three pig launchers and three pig receivers.

The entire project would be capable of transporting about 841,000 million British thermal units per day (Btu/d) of natural gas on the Fayetteville Lateral and about 768,000 MMBtu/d on the Greenville Lateral. Texas Gas proposes to construct the pipeline facilities in two phases. Phase I would include construction of the first 66 miles of the Fayetteville Lateral and related facilities from Conway County to the Bald Knob area of White County, Arkansas. Phase II would include construction of the remaining 100 miles of the Fayetteville Lateral from White County, Arkansas, to Coahoma County, Mississippi, the entire Greenville Lateral and associated tie-in laterals, and the Kosciusko Compressor Station. Texas Gas proposes beginning construction of both Phases I and II in June 2008. However, Phase I would be placed in service by August 1, 2008, and Phase II would be placed in service by January 1, 2009.

The Final EIS has been placed in the public files of the FERC and is available for public inspection at: Federal Energy Regulatory Commission, Public Reference Room, 888 First Street, NE., Room 2A, Washington, DC 20426, (202) 502-8371.

A limited number of copies of the Final EIS are available from the Public Reference Room identified above. In addition, CD copies of the Final EIS have been mailed to affected landowners; various federal, state, and local government agencies; elected officials; environmental and public interest groups; Native American tribes; local libraries and newspapers; intervenors; and other individuals that expressed an interest in the proposed Project. Hard-copies of the Final EIS have also been mailed to those who requested that format during the scoping and comment periods for the proposed Project.

Additional information about the proposed Project is available from the Commission's Office of External Affairs, at 1-866-208-FERC or on the FERC Internet website (http://www.ferc.gov).

To access information via the FERC website click on the “eLibrary” link then click on “General Search” and enter the docket number excluding the last three digits in the Docket Number field. Be sure you have selected an appropriate date range. The “eLibrary” link provides access to the texts of formal documents issued by the Commission, such as orders, notices, and rulemakings. For assistance with “eLibrary”, please contact FERC Online Support at FercOnlineSupport@ferc.gov or toll free at 1-866-208-3676, or for TTY, contact (202)502-8659.

In addition, the Commission now offers a free service called eSubscription which allows you to keep track of all formal issuances and submittals in specific dockets. This can reduce the amount of time you spend researching proceedings by automatically providing you with notification of these filings, document summaries and direct links to these documents. To learn more about eSubscription and to sign-up for this service please go to http://www.ferc.gov/esubscribenow.htm.

Kimberly D. Bose,
Secretary.

[FR Doc. E8-5119 Filed 3-13-08; 8:45 am]

BILLING CODE 6717-01-P